DEPARTMENT OF STATE

[Delegation of Authority 269]

Exemptions From US-VISIT

By virtue of the authority vested in me as Secretary of State, including the authority of Section 1 of the State Department Basic Authorities Act of 1956 (22 U.S.C. 2651a), as amended, and the authority conferred on me by 8 CFR 215.8(a)(2) and 235.1(d)(1)(iv), I hereby delegate the following functions as indicated.

Section 1. Functions Delegated to the Assistant Secretary for Consular Affairs, the Chief of Protocol, the Permanent Representative to the United Nations, Chiefs of Mission, Other Principal Officers, or Deputy Chiefs of Mission, and the Director and Deputy Director of American Institute of Taiwan

a. Functions Delegated

The functions vested in me as Secretary of State by 8 CFR 215.8(a)(2) and 235.1(d)(1)(iv) (relating to exempting individual aliens from arriving or departing requirements for fingerprinting and photographing or for providing other specified biometric identifiers), to be exercised under the standards and procedures set forth below.

b. Standards

(1) A determination by the Assistant Secretary for Consular Affairs to exempt an individual may be made in any case in which an exemption is in the national interest.

(2) A determination by the Chief of Protocol to exempt an individual may be made only after consultation with the Assistant Secretary for CA, or her designee, and only in cases in which: (a) Protocol has responsibility for the movement of a high-ranking foreign government official or members of that official's delegation; and (b) the individual could have traveled on a visa that would have qualified for an exemption under 8 CFR 215.8(a)(2)(ii) or (iii), or 235.1(d)(1)(iv)(A), (B), or (C).

(3) A determination by the Permanent Representative to the United Nations to exempt an individual may be made only if the individual is a member of a Permanent Observer Mission or Office to the United Nations who is granted a “B” visa by virtue of the member's status with the United Nations or an immediate family member of such member who is granted a “B” visa for purposes of accompanying the member.

(4) A determination by a Chief of Mission, other Principal Officer, Deputy Chief of Mission, or the Director or Deputy Director of American Institute of Taiwan may be made only for an individual nonimmigrant alien who qualifies for a Class A Referral under guidelines currently found at 9 FAM 302, App. K, which guidelines may be changed from time to time in accordance with Department procedures.

c. Procedures

Any individual exceptions granted pursuant to this delegation, and the factual basis therefore, shall be granted and documented in accordance with instructions from the Bureau of Consular Affairs.

Section 2. Additional Functions Delegated to the Assistant Secretary for Consular Affairs

The functions vested in me as Secretary of State by 8 CFR 215.8(a)(2)(iii) and 235.1(d)(1)(iv)(C) (relating to exempting jointly with the Secretary of Homeland Security classes of aliens from arriving or departing requirements for fingerprinting and photographing or for providing other specified biometric identifiers).

Section 3. Technical Provisions

The Assistant Secretary for Consular Affairs and the Permanent Representative to the United Nations may redelegate the functions delegated to them by this delegation.

Notwithstanding any provision of this Delegation of Authority, the Secretary of State, the Deputy Secretary of State, the Under Secretary for Political Affairs, and the Under Secretary of State for Management may at any time exercise any function delegated by this delegation of authority.

The statutes, regulations, and procedures referenced in this delegation shall be deemed to be such statutes, regulations, or procedures as amended from time to time.

This delegation shall be published in the Federal Register.

Dated: January 30, 2004.
Colin L. Powell,
Secretary of State, Department of State.

[FR Doc. 04-4007 Filed 2-23-04; 8:45 am]

BILLING CODE 4710-10-P